FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (FMC or Commission) hereby gives notice that it has submitted to the Office of Management and Budget a request for a revision of an approved information collection regarding the licensing of ocean transportation intermediaries, as listed below.

DATES: Written comments on this final notice must be submitted on or before September 17, 2007.

ADDRESSES: Comments should be addressed to: Office of Information and Regulatory Affairs, Office of Management and Budget, Attention: Desk Officer for Federal Maritime Commission, 725 17th Street, NW., Washington, DC 20503, OIRA_Submission@OMB.EOP.GOV or fax (202) 395-5806, and to Peter J. King, Director, Office of Administration, Federal Maritime Commission, 800 North Capitol Street, NW., Washington, DC 20573, (Telephone: (202) 523-5800), administration@fmc.gov. Please reference the information collection's title and OMB number in your comments.

FOR FURTHER INFORMATION CONTACT: To obtain additional information, copies of the information collection and instructions, or copies of any comments received, contact Jane Gregory, Management Analyst, Office of Administration, Federal Maritime Commission, 800 North Capitol Street, NW., Washington, DC 20573, (Telephone: (202) 523-5800), jgregory@fmc.gov.

SUPPLEMENTARY INFORMATION: A notice that FMC would be submitting this request was published in the Federal Register on June 8, 2007, allowing for a 60-day comment period. No comments were received.

The FMC hereby informs potential respondents that an agency may not conduct or sponsor, and that a person is not required to respond to, a collection of information unless it displays a currently valid OMB control number.

Information Collection Open for Comment

Title: 46 CFR 515—Licensing, Financial Responsibility Requirements and General Duties for Ocean Transportation Intermediaries and Related Forms.

OMB Approval Number: 3072-0018 (Expires August 31, 2007).

Abstract: Section 19 of the Shipping Act of 1984 (the “Act”), 46 U.S.C. 40901-40904 (2006), as modified by Public Law 105-258 (The Ocean Shipping Reform Act of 1998) and section 424 of Pub. L. 105-383 (The Coast Guard Authorization Act of 1998), provides that no person in the United States may act as an ocean transportation intermediary (OTI) unless that person holds a license issued by the Commission. The Commission shall issue an OTI license to any person that the Commission determines to be qualified by experience and character to act as an OTI. Further, no person may act as an OTI unless that person furnishes a bond, proof of insurance or other surety in a form and amount determined by the Commission to ensure financial responsibility. The Commission has implemented the provisions of section 19 in regulations contained in 46 CFR 515, including financial responsibility forms FMC-48, FMC-67, FMC-68, and FMC-69, Optional Rider Forms FMC-48A and FMC-69A, and its related license application form, FMC-18.

Current Actions: The Commission intends to revise Form FMC-18, Application for a License as an Ocean Transportation Intermediary. Specifically, language is being added to the Privacy Act Notice regarding voluntary disclosure of the applicant's Social Security Number, and the System of Records citation is being updated. In the Paperwork Reduction Act Notice, the estimated time to prepare an Application is being revised from 1.5 hours per response to 2 hours. Throughout the Application, any reference to the Bureau of Consumer Complaints and Licensing (“BCCL”) has been changed to the Bureau of Certification and Licensing (“BCL”). Also, language has been added to Question 7(2) in Part B, and to Question 13(3) in Part D, allowing applicant or its qualifying individual to disclose whether he/she has “been declared bankrupt, been subject to a tax lien, or had legal judgment rendered for a debt.” In accordance with the Privacy Act of 1974, this would allow the agency, to the greatest extent practicable, to collect information about an applicant that may be used in making a decision with respect to the granting of an OTI license, directly from the applicant.

Type of Review: Revision to an approved information collection.

Needs and Uses: The Commission uses information obtained under this part and through Form FMC-18 to determine the qualifications of OTIs and their compliance with shipping statutes and regulations and to enable the Commission to discharge its duties under the Act by ensuring that OTIs maintain acceptable evidence of financial responsibility. If the collection of information were not conducted, there would be no basis upon which the Commission could determine if applicants are qualified for licensing.

Frequency: This information is collected when applicants apply for a license or when existing licensees change certain information in their application forms.

Type of Respondents: The respondents are persons desiring to obtain a license to act as an OTI. Under the Act, OTIs may be either an ocean freight forwarder, a non-vessel-operating common carrier, or both.

Number of Annual Respondents: The Commission estimates a potential annual respondent universe of 4,765 entities.

Estimated Time Per Response: The time per response for completing Application Form FMC-18 averages 2 hours. The time to complete a financial responsibility form averages 20 minutes.

Total Annual Burden: The Commission estimates the total annual person-hour burden at 3,596 person-hours.

Bryant L. VanBrakle,
Secretary.

[FR Doc. E7-16064 Filed 8-15-07; 8:45 am]

BILLING CODE 6730-01-P